DEPARTMENT OF VETERANS AFFAIRS

[OMB Control No. 2900-New]

Proposed Information Collection Activity: Proposed Collection; Comment Request

AGENCY: Office of Management, Department of Veterans Affairs.

ACTION: Notice.

SUMMARY: The Office of Management (OM), Department of Veterans Affairs (VA), is announcing an opportunity for public comment on the proposed collection of certain information used by the agency. Under the Paperwork Reduction Act (PRA) of 1995, Federal agencies are required to publish notice in the Federal Register concerning each proposed collection of information, including each proposed new collection and allow 60 days for public comment in response to the notice. This notice solicits comments on VA's intent to accept credit card donations for the establishment and operation of a National Veterans Museum.

DATES: Written comments and recommendations on the proposed collection of information should be received on or before August 2, 2002.

ADDRESSES: Submit written comments on the collection of information to Robert Wilson, Office of Management (047F), Department of Veterans Affairs, 810 Vermont Avenue, NW, Washington, DC 20420 or e-mail: robert.wilson@mail.va.gov. Please refer to “OMB Control No. 2900-New” in any correspondence.

FOR FURTHER INFORMATION CONTACT: Robert Wilson at (202) 273-8898 or FAX (202) 273-9346.

SUPPLEMENTARY INFORMATION: Under the PRA of 1995 (Pub. L. 104-13; 44 U.S.C., 3501-3520), Federal agencies must obtain approval from the Office of Management and Budget (OMB) for each collection of information they conduct or sponsor. This request for comment is being made pursuant to Section 3506(c)(2)(A) of the PRA.

With respect to the following collection of information, OM invites comments on: (1) Whether the proposed collection of information is necessary for the proper performance of OM's functions, including whether the information will have practical utility; (2) the accuracy of OM's estimate of the burden of the proposed collection of information; (3) ways to enhance the quality, utility, and clarity of the information to be collected; and (4) ways to minimize the burden of the collection of information on respondents, including through the use of automated collection techniques or the use of other forms of information technology.

Title: Donations to National Veterans Museum (Via Credit Card), VA Form 5579a.

OMB Control Number: 2900-New.

Type of Review: New collection.

Abstract: VA Form 5579a will be used to accept donations via credit cards from individuals and corporations who wish to make a contribution to VA's National Veterans Museum. The Museum will tell the story of VA's link to American history. A range of interactive exhibits will introduce visitors to the services provided by VA and its precursors including the: (1) Benefits programs; (2) health care services and medical research and (3) National Cemeteries. The Museum will include state-of-art theatrical presentations, a Connection Center where visitors can use multimedia computer terminals with Internet access, and interactive audio-visual exhibits.

Affected Public: Individuals or households and Business or other for profit.

Estimated Annual Burden: 83 hours.

Estimated Average Burden Per Respondent: 1 minute.

Frequency of Response: One time.

Estimated Number of Respondents: 5,000.

Dated: May 14, 2002.
By direction of the Secretary.
Genie McCully,
Acting Director, Information Management Service.

[FR Doc. 02-13746 Filed 5-31-02; 8:45 am]

BILLING CODE 8320-01-P